INTERNATIONAL TRADE COMMISSION

Appointment of Individuals To Serve as Members of the Performance Review Board

AGENCY: United States International Trade Commission.

ACTION: Appointment of individuals to serve as members of performance review board.

DATES: Applicable Date: September 13, 2023.

FOR FURTHER INFORMATION CONTACT: Eric Mozie, Director of Human Resources, or Ronald Johnson, Deputy Director of Human Resources, U.S. International Trade Commission (202) 205-2651.

SUPPLEMENTARY INFORMATION: The Chairman of the U.S. International Trade Commission has appointed the following individuals to serve on the Commission's Performance Review Board (PRB):

Chair of the PRB: Commissioner Amy Karpel

Vice-Chair of the PRB: Commissioner Randolph Stayin

Member—John Ascienzo

Member—Dominic Bianchi

Member—Nannette Christ

Member—Catherine DeFilippo

Member—Katie Higginbothom

Member—Margaret Macdonald

Member—William Powers

Member—Keith Vaughn

This notice is published in the Federal Register pursuant to the requirement of 5 U.S.C. 4314(c)(4). Hearing impaired individuals are advised that information on this matter can be obtained by contacting our TDD terminal on (202) 205-1810.

By order of the Chairman.
Issued: September 14, 2023.
Katherine Hiner,
Supervisory Attorney.

[FR Doc. 2023-20280 Filed 9-18-23; 8:45 am]

BILLING CODE 7020-02-P